FEDERAL MARITIME COMMISSION

Ocean Transportation Intermediary License Rescission of Order of Revocation

The Commission gives notice that it has rescinded its Order revoking the following licenses pursuant to section 19 of the Shipping Act of 1984 (46 U.S.C. 40101).

License No.: 16338N.

Name: Brisk International Express, Inc.

Address: 8473 NW 74th Street, Miami, FL 33166.

Order Published: May 2, 2013 (Volume 78, No. 85, Pg. 25741).

License No.: 020500N.

Name: Ben-New Shipping, Inc.

Address: 1383 Kala Drive, Lithonia, GA 30058.

Order Published: May 2, 2013 (Volume 78, No. 85, Pg. 25741).

James A. Nussbaumer,
Deputy Director, Bureau of Certification and Licensing.

[FR Doc. 2013-11611 Filed 5-15-13; 8:45 am]

BILLING CODE 6730-01-P